DEPARTMENT OF TRANSPORTATION

Maritime Administration

[Docket No. USCG-2004-17696]

Freeport McMoRan Energy L.L.C. Main Pass Energy Hub Liquefied Natural Gas Deepwater Port License Application; Final Application Public Hearings and Final Environmental Impact Statement

AGENCY: Maritime Administration, DOT.

ACTION: Notice of availability; notice of public hearing; request for comments.

SUMMARY: The Maritime Administration (MARAD) announces the availability of the final environmental impact statement (FEIS) on the Main Pass Energy Hub (MPEH) Deepwater Port License Application. Also, public hearings will be held on matters relevant to the approval or denial of the license application. The application describes a project that would be located in the Gulf of Mexico in Main Pass Lease Block 299 (MP 299), approximately 16 miles southeast of Venice, Louisiana.

DATES: Three public hearings will be held. The public hearing in Grand Bay, Alabama will be on March 21, 2006, from 6 p.m. to 8 p.m., and will be preceded by an informational open house from 4:30 p.m. to 6 p.m. The public hearing in Pascagoula, Mississippi will be on March 22, 2006, from 6 p.m. to 8 p.m., and will be preceded by an informational open house from 4:30 p.m. to 6 p.m. The public hearing in New Orleans, Louisiana, will be on March 23, 2006, from 6 p.m. to 8 p.m., and will be preceded by an informational open house from 4:30 p.m. to 6 p.m. The public hearings may end later than the stated times, depending on the number wishing to speak.

Material submitted in response to the request for comments must reach the Docket Management Facility on or before April 24, 2006, ending the 45 day public comment period. Federal and State agencies must submit comments on the application, recommended conditions for licensing, or letters of no objection by May 7, 2006 (45 days after the final public hearings). Also by May 7, 2006, the Governors of the adjacent coastal states of Alabama, Louisiana, and Mississippi must approve, disapprove, or notify MARAD of inconsistencies with State programs relating to environmental protection, land and water use, and coastal zone management for which MARAD may condition the license to make consistent. MARAD must issue a record of decision (ROD) to approve, approve with conditions, or deny the DWP license application by June 21, 2006 (90 days after the public hearings.)

ADDRESSES: The first public hearing and informational open house will be held at the Grand Bay St. Elmo Community Center, 11610 Highway 90 West, Grand Bay, Alabama, phone: 251-865-4010. The second public hearing and informational open house will be held at the La Font Inn, 2703 Denny Avenue, Pascagoula, Mississippi, phone: 228-762-7111. The third public hearing and informational open house will be held at the Hilton New Orleans Riverside Hotel, Two Poydras Street, New Orleans, Louisiana, phone: 504-561-0500.

A copy of the FEIS, license application, and associated documentation is available for viewing at the DOT's docket management Web site: http://dms.dot.gov under docket number 17696. Copies are also available for review at the Pascagoula Public Library, MS, 228-769-3060; Bayou La Batre City Public Library, AL, 251-824-4213; Mobile Public Main Library, AL, 251-208-7106; Terrebonne Parish Library Main Branch, LA, 985-876-5861; Plaquemines Parish Public Library, LA, 985-657-7121; New Orleans Public Main Library, LA, 504-529-7989; Morgan City Public Library (St. Mary Parish), LA, 504-380-4646; and Ingleside Public Library, TX, 361-776-5355.

The public docket for this license application bears a U.S. Coast Guard (USCG) docket number, because the U.S. Coast Guard handles much of the processing for the license application. Address docket submissions for USCG-2004-17696 to: Docket Management Facility, U.S. Department of Transportation, 400 Seventh Street, SW., Washington, DC 20590-0001.

The Docket Management Facility accepts hand-delivered submissions, and makes docket contents available for public inspection and copying, at this address, in room PL-401, between 9 a.m. and 5 p.m., Monday through Friday, except Federal holidays. The Facility's telephone is 202-366-9329, its fax is 202-493-2251, and its Web site for electronic submissions or for electronic access to docket contents is http://dms.dot.gov.

FOR FURTHER INFORMATION CONTACT: H. Keith Lesnick, Senior Transportation Specialist, Deepwater Ports Program Manager, U.S. Maritime Administration, telephone: 202-366-1624 or e-mail Keith.Lesnick@dot.gov. If you have questions on viewing the docket, call Renee V. Wright, Program Manager, Docket Operations, telephone: 202-493-0402.

SUPPLEMENTARY INFORMATION:

Public Hearing and Open House

We invite you to learn about the proposed deepwater port at the informational open house, and to comment at the public hearing on the proposed action and the evaluation contained in the FEIS and the license application. Speaker registration will be available at the door. In order to allow everyone a chance to speak, we may limit speaker time, or extend the hearing hours, or both. You must identify yourself, and any organization you represent, by name. Your remarks will be recorded or transcribed for inclusion in the public docket.

You may submit written material at the public hearing, either in place of or in addition to speaking. Written material must include your name and address, and will be included in the public docket. Public docket materials will be made available to the public on the Docket Management Facility's Docket Management System (DMS). See ”Request for Comments” for information about DMS and your rights under the Privacy Act.

If you plan to attend either the open house or the public hearing, and need special assistance such as sign language interpretation or other reasonable accommodation, please notify MARAD (see FOR FURTHER INFORMATION CONTACT) at least 3 business days in advance. Include your contact information as well as information about your specific needs.

Request for Comments

We request public comments or other relevant information on the FEIS and license application. You can submit material to the Docket Management Facility during the public comment period (see DATES). We will consider all comments submitted during the public comment period.

Submissions should include:

• Docket number USCG-2004-17696.

• Your name and address.

• Your reasons for making each comment or for bringing information to our attention.

Submit comments or material using only one of the following methods:

• Electronic submission to DMS, http://dms.dot.gov.

• Fax, mail, or hand delivery to the Docket Management Facility (see ADDRESSES).

Faxed or hand delivered submissions must be unbound, no larger than 8½ by 11 inches, and suitable for copying and electronic scanning. If you mail your submission and want to know when it reaches the Facility, include a stamped, self-addressed postcard or envelope. Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

Proposed Action

We published a notice of application for the proposed MPEH LNG Terminal LLC deepwater port at 69 FR 32363 (June 9, 2004); a notice of intent to prepare an EIS at 69 FR 45337 (July 29, 2004); and announced the availability of the draft EIS (DEIS) at 70 FR 35277 (June 17, 2005). The proposed action requiring environmental review is the Federal licensing of the proposed deepwater port described in “Summary of the Application” below, which is reprinted from previous Federal Register notices in this docket.

Alternatives to the Proposed Action

The alternatives to licensing are: (1) Licensing with conditions (including conditions designed to mitigate environmental impact), and (2) denying the application, which for purposes of environmental review is the “no-action” alternative. These alternatives are more fully discussed in the FEIS.

Summary of the Application

The application calls for the proposed deepwater port to be located in the Gulf of Mexico on the Outer Continental Shelf (OCS), approximately 16 miles offshore southeast Louisiana in Main Pass Block 299. It would be located in a water depth of approximately 210 feet (64 meters). The proposed location is a former sulphur mining facility. The project would utilize four existing platforms, along with associated bridges and support structures, with appropriate modifications and additions as part of the deepwater port. Two new platforms would be constructed to support liquefied natural gas (LNG) storage tanks, and a patent-pending berthing system to berth the LNG carriers would be installed.

Freeport-McMoRan Energy LLC (FME) proposes the installation of approximately 192 miles of natural gas and natural gas liquid (NGL) transmission pipelines on the OCS, varying in size ranging from 12 to 36 inches in diameter. Five proposed pipelines would connect the deepwater port with several existing gas distribution pipelines, one of which would connect with a gas distribution pipeline near Coden, Alabama. The NGL derived from natural gas conditioning (i.e. ethane, propane, and butanes) would be delivered via a 12-inch pipeline to an existing NGL facility near Venice, Louisiana. A proposed metering platform would be installed at Main Pass 164 and would also provide a tie-in location for two lateral transmission lines.

The proposed project would sit atop a salt dome, approximately 2 miles in diameter. An on-site total gas storage capacity of approximately 28 billion cubic feet would be provided in three salt caverns to be constructed under the deepwater port.

The deepwater port facility would consist of LNG storage tanks, LNG carrier berthing provisions, LNG unloading arms, low and high pressure pumps, vaporizers, a gas conditioning plant, salt cavern gas storage, compression, dehydration, metering, utility systems, general facilities and accommodations. The terminal would be able to receive LNG carriers ranging in capacity between 60,000 and 160,000 cubic meters. LNG would be stored in six tanks located on two new fixed platforms. Each tank would have an approximate gross capacity of 24,660 cubic meters, for a total net capacity of approximately 145,000 cubic meters. Four unloading arms would be provided to offload the LNG carriers at a rate of 10,500 to 12,000 cubic meters per hour. The facility would have living quarters to routinely accommodate up to 50 personnel, but would be capable of accommodating up to 94 personnel for brief periods.

The FME MPEH would be designed to handle a nominal capacity of 7.0 million metric tons per year of LNG, or 350 billion cubic feet per year of gas. This is equivalent to an average delivery of approximately 1.0 billion cubic feet per day (bcfd). The facility would be capable of delivering a peak of 1.6 bcfd of pipeline-quality natural gas during periods of high demand, and a peak of 85,000 barrels per day of natural gas liquids.

Application for a Certificate of Public Convenience and Necessity

The onshore portion of this project shoreward of the mean high water line falls under the jurisdiction of the Federal Energy Regulatory Commission (FERC) and must receive a separate authorization from the FERC. As required by their regulations, FERC will also maintain a docket. The FERC docket numbers for this project are CP04-68-000 and CP04-69-000. To submit comments to the FERC docket, send an original and two copies of your comments to Secretary, Federal Energy Regulatory Commission, 888 First St., NE., Room 1A, Washington, DC 20426. Label one copy of the comments to the Attention of Gas Branch 2. The FERC strongly encourages electronic filing of any comments or interventions or protests to this proceeding. See 18 CFR 385.2001(a)(1)(iii) and the instructions on the FERC's Web site at http://www.ferc.gov under the “e-Filing” link and the link to the Users Guide. Additional information about the project is available from the Commission's Office of External Affairs at 1-866-208 FERC (3372) or on the FERC Internet Web site (http://www.ferc.gov). Using the “eLibrary” link, select “General Search” from the eLibrary menu, enter the selected date range and “Docket Number” (i.e., CP04-68-000 or CP04-69-000), and follow the instructions. For assistance with access to eLibrary, the helpline can be reached at 1-866-208-3676, TTY 202-502-8659, or at FERCOnlineSupport@ferc.gov. The eLibrary link on the FERC Internet Web site also provides access to the texts of formal documents issued by the Commission, such as orders, notices, and rulemakings. In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Department of Army Permit

On July 22, 2005, the New Orleans District, Army Corps of Engineers issued a joint public notice advising all interested parties of the proposed activity for which a Department of the Army permit is being sought and soliciting comments and information necessary to evaluate the probable impact on the public interest. Comments should be furnished to the U.S. Army Corps of Engineers, New Orleans District, OD-SW, P.O. Box 60267, New Orleans, LA 70160-0267.

Dated: March 9, 2006.
Joel C. Richard,
Secretary, Maritime Administration.

[FR Doc. E6-3594 Filed 3-13-06; 8:45 am]

BILLING CODE 4910-81-P